DEPARTMENT OF ENERGY

Federal Energy Regulatory Commission

Combined Notice of Filings

Take notice that the Commission has received the following Natural Gas Pipeline Rate and Refund Report filings:

Filings Instituting Proceedings

Docket Numbers: PR14-23-000.

Applicants: Kansas Gas Service, A Division of ONE Gas, Inc.

Description: Tariff filing per 284.123(b)(1),: Kansas Gas Service Notice of Name Change and Revision of SOC to be effective 2/19/2014; TOFC: 1330.

Filed Date: 2/19/14.

Accession Number: 20140219-5186.

Comments Due: 5 p.m. ET 3/12/14.

284.123(g) Protests Due: 5 p.m. ET 4/21/14.

Docket Numbers: PR14-24-000.

Applicants: Kansas Gas Service, A Division of ONE Gas, Inc.

Description: Tariff filing per 284.123(g)/.224: Notice of Termination of SOC of Kansas Gas Service, a division of ONEOK, Inc. effective 2/19/2014; TOFC: 1290.

Filed Date: 2/19/14.

Accession Number: 20140219-5193.

Comments Due: 5 p.m. ET 3/12/14.

284.123(g) Protests Due: 5 p.m. ET 4/21/14.

Docket Numbers: RP13-184-000.

Applicants: Wyoming Interstate Company, L.L.C.

Description: Amendment to February 5, 2014 Wyoming Interstate Company, L.L.C. tariff filing per 154.501: Refund Report.

Filed Date: 2/14/14.

Accession Number: 20140214-5088.

Comments Due: 5 p.m. ET 2/28/14.

Docket Numbers: RP14-148-000.

Applicants: Wyoming Interstate Company, L.L.C.

Description: Amendment to February 5, 2014 Wyoming Interstate Company, L.L.C. tariff filing per 154.501: Refund Report.

Filed Date: 2/14/14.

Accession Number: 20140214-5088.

Comments Due: 5 p.m. ET 2/28/14.

Docket Numbers: RP14-509-000.

Applicants: Gulf South Pipeline Company, LP.

Description: PAL Neg Rate Agmts (42046, 42047, 42054) to be effective 2/25/2014.

Filed Date: 2/25/14.

Accession Number: 20140225-5025.

Comments Due: 5 p.m. ET 3/10/14.

Docket Numbers: RP14-510-000.

Applicants: Millennium Pipeline Company, L.L.C.

Description: Annual Operational Transaction Report of Millennium Pipeline Company, L.L.C. pursuant to Section 41.3 of the General Terms and Conditions of Millennium's Tariff.

Filed Date: 2/25/14.

Accession Number: 20140225-5035.

Comments Due: 5 p.m. ET 3/10/14.

Docket Numbers: RP14-511-000.

Applicants: Natural Gas Pipeline Company of America.

Description: EOG Resources' Negotiated Rate to be effective 4/1/2014.

Filed Date: 2/25/14.

Accession Number: 20140225-5049.

Comments Due: 5 p.m. ET 3/10/14.

Docket Numbers: RP14-512-000.

Applicants: Texas Gas Transmission, LLC.

Description: PAL Neg Rate Agmts (33737, 33755, 33764, 37736, 37756) to be effective 2/20/2014.

Filed Date: 2/25/14.

Accession Number: 20140225-5110.

Comments Due: 5 p.m. ET 3/10/14.

Docket Numbers: RP14-513-000.

Applicants: Iroquois Gas Transmission System, L.P.

Description: 02/25/14 Negotiated Rates—JP Morgan Ventures Energy Corp (HUB) 6025-89 to be effective 2/24/2014.

Filed Date: 2/25/14.

Accession Number: 20140225-5118.

Comments Due: 5 p.m. ET 3/10/14.

Docket Numbers: RP14-514-000.

Applicants: Guardian Pipeline, L.L.C.

Description: PAL Negotiated Rate Agreement—Exelon Generation Company, L.L.C. to be effective 2/25/2014.

Filed Date: 2/25/14.

Accession Number: 20140225-5123.

Comments Due: 5 p.m. ET 3/10/14.

Docket Numbers: RP14-515-000.

Applicants: Midwestern Gas Transmission Company.

Description: Negotiated Rate PAL Agreement—MIECO, Inc. to be effective 2/26/2014.

Filed Date: 2/25/14.

Accession Number: 20140225-5128.

Comments Due: 5 p.m. ET 3/10/14.

Docket Numbers: RP14-516-000.

Applicants: Gavilon, LLC, Tenaska Marketing Ventures.

Description: Joint Petition for Temporary Waiver of Capacity Release Regulations and Policies and Related Pipeline Tariff Provisions of Gavilon, LLC and Tenaska Marketing Ventures.

Filed Date: 2/25/14.

Accession Number: 20140225-5147.

Comments Due: 5 p.m. ET 3/4/14.

Docket Numbers: RP14-517-000.

Applicants: Viking Gas Transmission Company.

Description: Semi-Annual FLRP—Spring 2014 to be effective 4/1/2014.

Filed Date: 2/26/14.

Accession Number: 20140226-5028.

Comments Due: 5 p.m. ET 3/10/14.

Docket Numbers: RP14-518-000.

Applicants: Southeast Supply Header, LLC.

Description: Negotiated Rate Capacity Release 4/01/2014 to be effective 4/1/2014.

Filed Date: 2/26/14.

Accession Number: 20140226-5061.

Comments Due: 5 p.m. ET 3/10/14.

Docket Numbers: RP14-519-000.

Applicants: Iroquois Gas Transmission System, L.P.

Description: 02/26/14 Negotiated Rates—Tenaska Gas Storage, LLC (HUB) 1175-89 to be effective 2/25/2014.

Filed Date: 2/26/14.

Accession Number: 20140226-5091.

Comments Due: 5 p.m. ET 3/10/14.

Docket Numbers: RP14-520-000.

Applicants: Guardian Pipeline, L.L.C.

Description: Revision to OSS and LBS Form of Service Agreements to be effective 4/1/2014.

Filed Date: 2/26/14.

Accession Number: 20140226-5214.

Comments Due: 5 p.m. ET 3/10/14.

Docket Numbers: RP14-521-000.

Applicants: Gulf South Pipeline Company, LP.

Description: Cap Rel Neg Rate Agmt (JW 34690 to QWest 42068) to be effective 3/1/2014.

Filed Date: 2/27/14.

Accession Number: 20140227-5021.

Comments Due: 5 p.m. ET 3/11/14.

Docket Numbers: RP14-522-000.

Applicants: Iroquois Gas Transmission System, L.P.

Description: 02/27/14 Negotiated Rates—United Energy Trading, LLC (HUB) 5095-89 to be effective 2/26/2014.

Filed Date: 2/27/14.

Accession Number: 20140227-5026.

Comments Due: 5 p.m. ET 3/11/14.

Docket Numbers: RP14-523-000.

Applicants: Guardian Pipeline, L.L.C.

Description: EPC Semi-Annual Adjustment—Spring 2014 to be effective 4/1/2014.

Filed Date: 2/27/14.

Accession Number: 20140227-5033.

Comments Due: 5 p.m. ET 3/11/14.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP14-262-001.

Applicants: Dominion Transmission, Inc.

Description: DTI—RP14-262 Settlement Compliance to be effective 1/1/2014.

Filed Date: 2/26/14.

Accession Number: 20140226-5023.

Comments Due: 5 p.m. ET 3/10/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated February 27, 2014.
Nathaniel J. Davis, Sr.,
Deputy Secretary.

[FR Doc. 2014-04901 Filed 3-5-14; 8:45 am]

BILLING CODE 6717-01-P